DEPARTMENT OF HEALTH AND HUMAN SERVICES

Office of the Secretary

[Document Identifier: HHS-OS-17579-30D]

Agency Information Collection Activities; Submission to OMB for Review and Approval; Public Comment Request

ACTION: 30-Day notice.

SUMMARY: In compliance with section 3506(c)(2)(A) of the Paperwork Reduction Act (PRA) of 1995, the Office of the Secretary (OS), Department of Health and Human Services, will submit an Information Collection Request (ICR), described below, to the Office of Management and Budget (OMB) for review and approval. The ICR is for renewal of the approved information collection assigned OMB control number 0937-0166, scheduled to expire on December 31, 2012. Comments submitted during the first public review of this ICR will be provided to OMB. OMB will accept further comments from the public on this ICR during the review and approval period.

Deadline: Comments on the ICR must be received within 30 days of the issuance of this notice.

ADDRESSES: Submit your comments, including the OMB control number 0937-0166 and document identifier HHS-OS-17579-30D, to OIRA_submission@omb.eop.gov or via facsimile to (202) 395-5806. Copies of the supporting statement and any related forms may be requested via email to Information.CollectionClearance@hhs.gov or by calling (202) 690-6162.

Information Collection Request Title: HHS 42CFR subpart B; Sterilization of Persons in Federally Assisted Family Planning Projects

Abstract: This is a request for extension of a currently approved collection for the disclosure and record-keeping requirements codified at 42 CFR part 50, subpart B (“Sterilization of Persons in Federally Assisted Family Planning Projects”). The consent form solicits information to assure voluntary and informed consent to persons undergoing sterilization in programs of health services which are supported by federal financial assistance administered by the Public Health Service (PHS) Act. It provides additional procedural protection to the individual and the regulation requires that the consent form be a copy of the form that is appended to the PHS regulation. In 2003, the PHS sterilization consent form was revised to conform to OMB government-wide standards for the collection of race/ethnicity data and to incorporate the PRA burden statement as part of the consent form. The current form has been updated to conform to the changed name of a federal entitlement program. The program, Aid to Families with Dependent Children (AFDC), utilized by low-income families with dependent children who need federal assistance, has been replaced by a different program with similar aims, Temporary Assistance for Needy Families (TANF). Consequently, the reference to A.F.D.C. in the first paragraph has been replaced with a reference to T.A.N.F.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

Total Estimated Annualized Burden—Hours
Forms (if necessary) | Type of respondent | Number of respondents | Number of responses per respondent | Average burden hours per response | Total burden hours
100,000 | citizen seeking sterilization | 100,000 | 1 | 15/60 | 25,000

Keith A. Tucker,
Information Collection Clearance Officer, Department of Health and Human Services.

[FR Doc. 2012-24845 Filed 10-9-12; 8:45 am]

BILLING CODE 4150-34-P